DEPARTMENT OF ENERGY

Federal Energy Regulatory Commission

Combined Notice of Filings #1

Take notice that the Commission received the following electric corporate filings:

Docket Numbers: EC16-148-000.

Applicants: Florida Power & Light Company.

Description: Application for Authorization Under Section 203 of the Federal Power Act and Request for Expedited Action of Florida Power & Light Company.

Filed Date: 7/13/16.

Accession Number: 20160713-5134.

Comments Due: 5 p.m. ET 8/3/16.

Docket Numbers: EC16-149-000.

Applicants: San Diego Gas & Electric Company.

Description: Application for Authorization of Transaction Pursuant to Section 203 of the Federal Power Act and Request for Expedited Action of San Diego Gas & Electric Company.

Filed Date: 7/13/16.

Accession Number: 20160713-5136.

Comments Due: 5 p.m. ET 8/3/16.

Take notice that the Commission received the following electric rate filings:

Docket Numbers: ER16-2170-000.

Applicants: Duke American Transmission Company LLC.

Description: Request for Limited Waiver and Request for Shortened Notice Period of Duke American Transmission Company LLC.

Filed Date: 7/8/16.

Accession Number: 20160708-5227.

Comments Due: 5 p.m. ET 7/18/16.

Docket Numbers: ER16-2190-000.

Applicants: Brady Wind, LLC.

Description: Baseline eTariff Filing: Brady Wind, LLC Application for Market-Based Rates to be effective 10/1/2016.

Filed Date: 7/13/16.

Accession Number: 20160713-5124.

Comments Due: 5 p.m. ET 8/3/16.

Docket Numbers: ER16-2191-000.

Applicants: Brady Wind II, LLC.

Description: Baseline eTariff Filing: Brady Wind II, LLC Application for Market-Based Rates to be effective 11/1/2016.

Filed Date: 7/13/16.

Accession Number: 20160713-5125.

Comments Due: 5 p.m. ET 8/3/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 14, 2016.
Nathaniel J. Davis, Sr.,
Deputy Secretary.

[FR Doc. 2016-17104 Filed 7-19-16; 8:45 am]

BILLING CODE 6717-01-P